DEPARTMENT OF ENERGY

Federal Energy Regulatory Commission

Combined Notice of Filings #1

Take notice that the Commission received the following electric rate filings:

Docket Numbers: ER11-4355-002; ER11-4178-001; ER11-4179-001; ER11-39-003.

Applicants: Flat Water Wind Farm, LLC, Roth Rock Wind Farm, LLC, TPW Petersburg, LLC, Roth Rock North Wind Farm, LLC.

Description: Clarification of TPW Petersburg, LLC, et al. of Notice of Non-Material Change in Status.

Filed Date: 3/16/12.

Accession Number: 20120316-5181.

Comments Due: 5 p.m. ET 4/6/12.

Docket Numbers: ER12-1198-001.

Applicants: Solano 3 Wind LLC.

Description: Revised Application of Solano 3 Wind LLC For Order Accepting Market-Based Rate T to be effective 3/31/2012.

Filed Date: 3/16/12.

Accession Number: 20120316-5119.

Comments Due: 5 p.m. ET 4/6/12.

Docket Numbers: ER12-1202-001.

Applicants: Liberty Hill Power LLC.

Description: Liberty Hill Power LLC, FERC Electric Tariff to be effective 4/29/2012.

Filed Date: 3/16/12.

Accession Number: 20120316-5120.

Comments Due: 5 p.m. ET 4/6/12.

Docket Numbers: ER12-1241-001.

Applicants: Alabama Power Company.

Description: PowerSouth NITSA Amendment (Add Hewett DP with McVay-Scyrene Temporary DP) to be effective 3/16/2012.

Filed Date: 3/16/12.

Accession Number: 20120316-5131.

Comments Due: 5 p.m. ET 4/6/12.

Docket Numbers: ER12-1261-000.

Applicants: Cleco Power LLC.

Description: Supplemental filing to be effective N/A.

Filed Date: 3/15/12.

Accession Number: 20120315-5093.

Comments Due: 5 p.m. ET 4/5/12.

Docket Numbers: ER12-1274-000.

Applicants: Lehigh Capital, LLC.

Description: Lehigh Capital, LLC submits request for the cancellation of its status of market-based rate.

Filed Date: 3/14/12.

Accession Number: 20120316-0201.

Comments Due: 5 p.m. ET 4/4/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2012.
Nathaniel J. Davis, Sr.,
Deputy Secretary.

[FR Doc. 2012-7145 Filed 3-23-12; 8:45 am]

BILLING CODE 6717-01-P